DEPARTMENT OF HEALTH AND HUMAN SERVICES

National Institutes of Health

Request for Information (RFI): Inviting Comments on the National Institutes of Health's (NIH) Strategic Plan for Data Science 2023-2028

AGENCY: National Institutes of Health, HHS.

ACTION: Request for information.

SUMMARY: The purpose of this Request for Information (RFI) is to solicit public comments on the updated NIH Strategic Plan for Data Science, 2023-2028, including members of the scientific community, academic institutions, the private sector, health professionals, professional societies, advocacy groups, and patient communities, as well as other interested members of the public.

DATES: The NIH Request for Information is open for public comment. To assure consideration, your response must be received by March 15, 2024, 11:59 p.m. (ET).

ADDRESSES: All comments must be submitted electronically on the submission website at https://datascience.nih.gov/rfi-strategic-plan or to the mailbox at strategic-plan-rfi@od.nih.gov.

Responses must be received by 11:59:59 p.m. (ET) on March 15, 2024.

Responses to this RFI are voluntary and may be submitted anonymously. You may voluntarily include your name and contact information with your response. If you choose to provide NIH with this information, NIH will not share your name and contact information outside of NIH unless required by law.

Other than your name and contact information, please do not include any personally identifiable information or any information that you do not wish to make public. Proprietary, classified, confidential, or sensitive information should not be included in your response. The government will use the information submitted in response to this RFI at its discretion. Other than your name and contact information, the government reserves the right to use any submitted information on public websites, in reports, in summaries of the state of the science, in any possible resultant solicitation(s), grant(s), or cooperative agreement(s), or in the development of future funding opportunity announcements. This RFI is for informational and planning purposes only and is not a solicitation for applications or an obligation on the part of the government to provide support for any ideas identified in response to it. Please note that the government will not pay for the preparation of any information submitted or for use of that information.

We look forward to your input and hope that you will share this RFI opportunity with your colleagues.

FOR FURTHER INFORMATION CONTACT: Questions about this request for information should be directed to Dr. Susan Gregurick, 301-538-9781, strategic-plan-rfi@od.nih.gov, National Institutes of Health, Office of Data Science Strategy, 9000 Rockville Pike, Bethesda, Maryland 20892.

SUPPLEMENTARY INFORMATION: NIH is requesting public comment on topics under consideration for the updated NIH Strategic Plan for Data Science, 2023-2028 from its partners and collaborators, including members of the scientific community, academic institutions, the private sector, health professionals, professional societies, advocacy groups, and patient communities, as well as other interested members of the public. This RFI is in accordance with 42 U.S.C. 281 as amended.

Background

The updated Strategic Plan for Data Science (https://datascience.nih.gov/sites/default/files/NIH-STRATEGIC-PLAN-FOR-DATA-SCIENCE-2023-2028-final-draft.pdf) sets a bold vision for the future, one in which data generated in the course of care of individuals and data generated from biomedical and basic research become powerful inputs that enhance our understanding of fundamental biology and enables the development of new clinical treatments and diagnostic technologies. This updated plan builds on accomplishments from the initial NIH Strategic Plan for Data Science (https://datascience.nih.gov/nih-strategic-plan-data-science) and will prepare NIH to face the acceleration of sophisticated new technologies and address the rapid rise in the quantity and diversity of data. The updated Strategic Plan supports the NIH Policy for Data Management and Sharing (https://sharing.nih.gov/data-management-and-sharing-policy) and embraces data-driven discovery as a powerful tool to elucidate biological processes and better characterize the health and health consequences of all people. This plan also fosters ethical use of new methodologies arising from artificial intelligence and machine learning.

The updated Strategic Plan will accomplish five overarching goals:

• Goal 1: Improve Capabilities to Sustain the NIH Policy for Data Management and Sharing

• Goal 2: Develop Programs to Enhance Human Derived Data for Research

• Goal 3: Provide New Opportunities in Software, Computational Methods, and Artificial Intelligence

• Goal 4: Support for a Federated Biomedical Research Data Infrastructure

• Goal 5: Strengthen a Broad Community in Data Science

The complete draft plan is available at: https://datascience.nih.gov/sites/default/files/NIH-STRATEGIC-PLAN-FOR-DATA-SCIENCE-2023-2028-final-draft.pdf.

Information Requested

NIH is requesting public comment throughout the scientific research community and members of the general public for the updated NIH Strategic Plan for Data Science. NIH encourages organizations (e.g., patient advocacy groups, professional organizations) to submit a single response reflective of the views of the organization or membership as a whole.

Response to this RFI is voluntary. Respondents are free to address any or all topics listed below, as well as other relevant topics, for NIH's consideration. If you choose to provide NIH with this information, NIH will not share your name and contact information outside of NIH unless required by law.

The NIH seeks comments on any of the following topics:

• The appropriateness of the goals of the plan, the strategies and implementation tactics proposed to achieve them; including potential benefits, drawbacks or challenges.

• Opportunities for NIH to partner to achieve these goals.

• Emerging research needs and opportunities that should be added to the plan.

• Any other topic the respondent feels is relevant for NIH to consider in developing this strategic plan.

This RFI is for planning purposes only and should not be construed as a solicitation for applications or proposals, or as an obligation in any way on the part of the United States federal government. The federal government will not pay for the preparation of any information submitted or for the government's use. Additionally, the government cannot guarantee the confidentiality of the information provided.

Dated: January 6, 2024.
Lawrence A. Tabak,
Principal Deputy Director, National Institutes of Health.

[FR Doc. 2024-00696 Filed 1-12-24; 8:45 am]

BILLING CODE 4140-01-P